DEPARTMENT OF HEALTH AND HUMAN SERVICES

Centers for Medicare & Medicaid Services

[Document Identifier: CMS-643 and CMS-10425]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension without change of a currently approved collection. Title of Information Collection: Hospice Survey and Deficiencies Report Form and Supporting Regulations. Use: CMS uses the information collected as the basis for certification decisions for hospices that wish to obtain or retain participation in the Medicare and Medicaid programs. The information is used by CMS regional offices, which have the delegated authority to certify Medicare facilities for participation, and by State Medicaid agencies, which have comparable authority under Medicaid. The information on the Hospice Survey and Deficiencies Report Form is coded for entry into the OSCAR system. The data is analyzed by the CMS regional offices and by the CMS central office components for program evaluation and monitoring purposes. The information is also available to the public upon request. Form Number: CMS-643 (OCN 0938-0379). Frequency: Yearly. Affected Public: State, Local, or Tribal Governments. Number of Respondents: 3,644. Total Annual Responses: 1,217. Total Annual Hours: 1,217. (For policy questions regarding this collection contact Kim Roche at 410-786-3524. For all other issues call 410-786-1326.)

2. Type of Information Collection Request: New collection; Title of Information Collection: Evaluation of Patient Satisfaction and Experience of Care for Medicare Beneficiaries with End-Stage Renal Disease (ESRD): Impact of the ESRD Prospective Payment System (PPS) and ESRD Quality Incentive Program (QIP); Use: The Medicare Prescription Drug Improvement, and Modernization Act of 2003 (MMA) required the Secretary of HHS to submit to Congress a report detailing the elements and features for the design and implementation of a bundled ESRD PPS, specifying that such a system should include the bundling of separately billed drugs, clinical laboratory tests, and other items “to maximum extent feasible”. The Medicare Improvements for Patients and Providers Act of 2008 (MIPPA) directed the Secretary of HHS to implement a payment system under which a single payment is made to a provider of services or a renal dialysis facility for renal dialysis services in lieu of any other payment. The ESRD PPS combines composite rate dialysis services with separately billable services under a single payment adjusted to reflect patient differences in resource needs or case-mix. The MIPPA also stipulated the development of quality incentives for the ESRD program. CMS has established the End-Stage Renal Disease Quality Incentive Program (ESRD QIP) to address this provision of the legislation.

In order to assess the impact of the Final Rule on ESRD beneficiary experiences, satisfaction, and health outcomes, CMS is requesting OMB approval to conduct data collection to obtain input on the effect of the Final Rule on our ESRD beneficiaries. The purposes of this data collection effort are to assess beneficiary satisfaction and experience of care in terms of access to services, quality of care, outcomes, and cost. This will be measured through telephone surveys with ESRD beneficiary and through interviews with key stakeholder in the renal health care community. The information obtained from both the beneficiary respondents and key stakeholders will be used both to provide an initial reporting of the ESRD PPS/QIP's effects on beneficiary satisfaction and experience of care and to inform the Centers for Medicare & Medicaid Services (CMS) of the impact of the ESRD PPS/QIP on patient satisfaction and experience of care, including unintended consequences, for consideration of future modification of the programs.

Form Number: CMS-10425 (OCN: 0938-New); Frequency: Yearly; Affected Public: Individuals. Number of Respondents: 2,540. Number of Responses: 2,540. Total Annual Hours: 1,287. (For policy questions regarding this collection contact Steve Blackwell at 410-786-6852. For all other issues call 410-786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 10, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _________, Room C4-26-05, 7500 Security Boulevard, Baltimore, Maryland 21244-1850.

Dated: May 8, 2012.
Martique Jones,
Director, Regulations Development Group, Division B Office of Strategic Operations and Regulatory Affairs.

[FR Doc. 2012-11441 Filed 5-10-12; 8:45 am]

BILLING CODE 4120-01-P